DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of two persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On July 31, 2018, OFAC determined that the property and interests in property subject to U.S. jurisdiction of the following persons are blocked under the relevant sanctions authority listed below.

Individuals

1. JABBAR, Abdul (a.k.a. JABAR, Abdul), 124 Yasir Ghaffar Town, Okara, Punjab, Pakistan; DOB 03 Feb 1977; nationality Pakistan; Gender Male (individual) [SDGT].

Designated pursuant to section 1(c) of Executive Order 13224 of September 23, 2001, “Blocking Property and Prohibiting Transactions With Persons Who Commit, Threaten to Commit, or Support Terrorism” (E.O. 13224) for acting for or on behalf of LASHKAR-E TAYYIBA, an entity determined to be subject to E.O. 13224.

2. HASSAN, Hameed ul (a.k.a. HASAN, Hameed ul; a.k.a. HASSAN, Hameedul), House number 4, Lane 4, Village flag 2, Dhalwan, Pasrur Tehsil, Sialkot District, Punjab Province, Pakistan; DOB 02 Jan 1980; alt. DOB 02 Nov 1980; POB Sialkot, Pakistan; nationality Pakistan; Gender Male (individual) [SDGT].

Designated pursuant to section 1(c) of Executive Order 13224 of September 23, 2001, “Blocking Property and Prohibiting Transactions With Persons Who Commit, Threaten to Commit, or Support Terrorism” (E.O. 13224) for acting for or on behalf of LASHKAR-E TAYYIBA, an entity determined to be subject to E.O. 13224.

Dated: July 31, 2018.
Andrea M. Gacki,
Acting Director, Office of Foreign Assets Control.

[FR Doc. 2018-16842 Filed 8-6-18; 8:45 am]

BILLING CODE 4810-AL-P